DEPARTMENT OF THE INTERIOR

National Park Service

Notice of Intent To Prepare an Environmental Impact Statement for the Lackawanna Valley National Heritage Area, Management Plan Update

AGENCY: National Park Service, Department of the Interior.

ACTION: Notice of intent to prepare an Environmental Impact Statement for the Lackawanna Valley National Heritage Area Management Plan Update.

SUMMARY: Under the provisions of the National Environmental Policy Act of 1969, the National Park Service is preparing an environmental impact statement (EIS) for the Management Plan Update for Lackawanna Valley National Heritage Area. The Lackawanna Valley National Heritage Area Act of 2000 requires the Lackawanna Heritage Valley Authority (LHVA), with guidance from the National Park Service, to prepare an update of their 1991 Plan for the Lackawanna Heritage Valley. The Management Plan Update is expected to include: (A) An inventory of the resources contained in the Heritage Area, including a list of any property in the Heritage Area that is related to the purposes of the Heritage Area and that should be preserved, restored, managed, developed, or maintained because of its historical, cultural, natural, recreational, or scenic significance. (B) A recommendation of policies for resource management that considers and details application of appropriate land and water management techniques, including the development of intergovernmental cooperative agreements to protect the historical, cultural, natural, and recreational resources of the Heritage Area in a manner that is consistent with the support of appropriate and compatible economic viability. (C) A program for implementation of the management plan by the management entity, including (i) plans for restoration and construction; and (ii) specific commitments of the partners for the first 5 years of operation. (D) An analysis of ways in which local, State, and Federal programs may best be coordinated to promote the purposes of this Act. (E) An interpretation plan for the Heritage Area.

The study area, designated as the Lackawanna Valley National Heritage Area, shall be comprised of all or parts of Lackawanna County, Luzerne County, Wayne County, and Susquehanna County, Pennsylvania in northeastern Pennsylvania as associated with the Lackawanna Valley River corridor.

The National Park Service (NPS) maintains one park site within the region: Steamtown National Historical Park. Otherwise the majority of land is non-Federal and the NPS assumes a management role only within the park unit. Instead, conservation, interpretation and other activities are managed by partnerships among Federal, State, and local governments and private nonprofit organizations. The Lackawanna Heritage Valley Authority (LHVA) manages the national heritage area. The National Park Service has been authorized by Congress to provide technical and financial assistance for a limited period (up to 10 years from the time of the designation in 2000).

The EIS will address a range of alternatives—they include a no-action alternative and other action alternatives. The impacts of the alternatives will be assessed through the EIS process.

A scoping meeting will be scheduled and notice will be made of the meeting through a broad public mailing and publication in the local newspapers.

FOR FURTHER INFORMATION CONTACT: Peter Samuel, Project Leader, Philadelphia Support Office, National Park Service, U.S. Customs House, 200 Chestnut Street, Philadelphia, PA 19106, peter_samuel@nps.gov, 215-597-1848.

If you correspond using the Internet, please include your name and return address in your e-mail message. Our practice is to make comments, including names and home addresses of respondents, available for public review. Individual respondents may request that we withhold their home address from the record, which we will honor to the extent allowable by law. There also may be circumstances in which we would withhold from the record a respondent's identity, as allowable by law. If you wish us to withhold your name/or address, you must state this prominently at the beginning of your comment. However, we will not consider anonymous comments. We will make all submissions from organizations or businesses, and from individuals identifying themselves as representatives or officials or organizations or businesses, available for public inspection in their entirety.

Dated: January 28, 2003.
Pat Phelan,
Associate Regional Director, Administration, Northeast Region.

[FR Doc. 03-8493 Filed 4-7-03; 8:45 am]

BILLING CODE 4310-70-M